DEPARTMENT OF ENERGY

Federal Energy Regulatory Commission

[Project No. 13301-002]

Town of Afton, WY; Notice of Application Tendered for Filing With the Commission and Soliciting Additional Study Requests

May 6, 2009.

Take notice that the following hydroelectric application has been filed with the Commission and is available for public inspection.

a. Type of Application: Minor license.

b. Project No.: 13301-002.

c. Date filed: April 29, 2009.

d. Applicant: Town of Afton.

e. Name of Project: Culinary Water System Hydroelectric Project.

f. Location: On the culinary water supply system, in the Town of Afton, Lincoln County, Wyoming. The project would occupy 12.3 acres of land in the Bridger-Teton National Forest.

g. Filed Pursuant to: Federal Power Act, 16 U.S.C. 791(a)-825(r).

h. Applicant Contact: Town of Afton, James K. Sanderson, 416 Washington St., P.O. Box 310, Afton, WY 83110.

i. FERC Contact: Ryan Hansen, 202-502-8074. Ryan.hansen@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 28, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

m. The application is not ready for environmental analysis at this time.

n. The project consists of the following facilities: (1) An intake at Periodic Springs; (2) an existing 97,000 gallon buried concrete surge tank; (3) an existing 16,775-foot-long, 18-inch-diameter iron ductile pipe; (4) a new approximately 95-foot-long, 2-foot-diameter ductile iron penstock conveying flows from the existing pipe to the new powerhouse; (5) a 20-foot-long by 20-foot-wide powerhouse containing a single Pelton turbine and generator with an installed capacity of 225 kilowatts (kW); (6) an approximately 10-foot-long, 2.5-foot-diameter draft tube discharging flows from the powerhouse to an existing access hatchway at the top of the storage tank; (7) a one-million-gallon storage tank; and (8) appurtenant facilities. The power generated will intertie with the existing 12.5-kilovolt distribution system at the culinary water treatment plant.

The Culinary Water System Hydroelectric Project would utilize some features from the Town of Afton's existing culinary water supply system. Under current operating conditions, water is piped from Periodic Springs to a buried concrete surge tank. From this tank, water is routed to a water treatment plant, and then to a storage tank before distribution. The new hydroelectric project will divert flow at an existing bifurcation in the conveyance pipe, upstream of the treatment plant. Flows up to 12 cubic feet per second (cfs) will be diverted to the powerhouse for hydropower generation, then discharged directly to the storage tank, bypassing the current treatment plant. The proposed project would have a total installed capacity of 225 kW and would produce an average annual generation of 1,272,463 kilowatt-hours. The generated power would be utilized to offset the energy used by the culinary water system, with net power sold to Lower Valley Energy, Inc. The project will operate as a run-of-river, with any flows in excess of the turbine capacity of 12 cfs bypassing the project to the existing treatment plant.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Wyoming State Historic Preservation Officer (SHPO), as required by Section 106, National Historic Preservation Act, and the regulations of the Advisory Council on Historic Preservation, 36 CFR at 800.4.

q. Procedural schedule: The application will be processed according to the following Hydro Licensing Schedule. Revisions to the schedule will be made as appropriate.

Issue Acceptance Letter; July 6, 2009.

Issue Scoping Document for comments; August 5, 2009.

Notice that application is ready for environmental analysis; November 3, 2009.

Notice of the availability of the EA; March 3, 2010.

Kimberly D. Bose,
Secretary.

[FR Doc. E9-11112 Filed 5-12-09; 8:45 am]

BILLING CODE 6717-01-P